DEPARTMENT OF COMMERCE

National Oceanic and Atmospheric Administration

[I.D. 111706B]

Endangered Species; File No. 1448

AGENCY: National Marine Fisheries Service (NMFS), National Oceanic and Atmospheric Administration (NOAA), Commerce.

ACTION: Notice; issuance of permit modification.

SUMMARY: Notice is hereby given that Northeast Fisheries Science Center, National Marine Fisheries Service (NMFS), 166 Water Street, Room 211, Woods Hole, Massachusetts 02543-1097, [Responsible Party: Nancy Thompson], has been issued a modification to scientific research Permit No. 1448.

ADDRESSES: The modification and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

FOR FURTHER INFORMATION CONTACT: Amy Hapeman or Patrick Opay, (301)713-2289.

SUPPLEMENTARY INFORMATION: On September 27, 2006, notice was published in the Federal Register (71 FR 56478) that a modification of Permit No. 1448, issued January 9, 2004 (69 FR 3332), had been requested by the above-named organization. The requested modification has been granted under the authority of the Endangered Species Act of 1973, as amended (ESA; 16 U.S.C. 1531 et seq.) and the regulations governing the taking, importing, and exporting of endangered and threatened species (50 CFR 222-226).

The modification authorizes the NEFSC to biopsy sample up to 50 of the Kemp's ridley (Lepidochelys kempii) sea turtles greater than 25 cm total carapace length that the holder is currently authorized to handle and biologically sample under the existing permit. This research will help confirm observer identifications of sea turtles made by collaborating NOAA researchers for animals that have been already incidentally captured in legal commercial fisheries operating in state waters and the Exclusive Economic Zone in the Northwest Atlantic Ocean.

Issuance of this modification, as required by the ESA was based on a finding that such permit modification (1) was applied for in good faith, (2) will not operate to the disadvantage of any endangered or threatened species, and (3) is consistent with the purposes and policies set forth in section 2 of the ESA.

Dated: November 21, 2006.
P. Michael Payne,
Chief, Permits, Conservation and Education Division, Office of Protected Resources, National Marine Fisheries Service.

[FR Doc. E6-20168 Filed 11-27-06; 8:45 am]

BILLING CODE 3510-22-S